ENVIRONMENTAL PROTECTION AGENCY

[EPA-HQ-OARM-2016-0210; FRL-9954-90-OARM]

National and Governmental Advisory Committees to the U.S. Representative to the Commission for Environmental Cooperation

AGENCY: Environmental Protection Agency (EPA).

ACTION: Notice of advisory committee meeting.

SUMMARY: Under the Federal Advisory Committee Act, Public Law 92-463, the Environmental Protection Agency (EPA) gives notice of a meeting of the National Advisory Committee (NAC) and Governmental Advisory Committee (GAC) to the U.S. Representative to the North American Commission for Environmental Cooperation (CEC). The National and Governmental Advisory Committees advise the EPA Administrator in her capacity as the U.S. Representative to the CEC Council. The committees are authorized under Articles 17 and 18 of the North American Agreement on Environmental Cooperation (NAAEC), North American Free Trade Agreement Implementation Act, Public Law 103-182, and as directed by Executive Order 12915, entitled “Federal Implementation of the North American Agreement on Environmental Cooperation.” The NAC is composed of 16 members representing academia, environmental non-governmental organizations, and private industry. The GAC consists of 14 members representing state, local, and tribal governments. The committees are responsible for providing advice to the U.S. Representative on a wide range of strategic, scientific, technological, regulatory, and economic issues related to implementation and further elaboration of the NAAEC.

The purpose of the meeting is to provide advice on issues related to the CEC's 2016-17 Draft Operational Plan, youth engagement, and other trade and environment issues in North America. The meeting will also include a public comment session. The agenda, meeting materials, and general information about the NAC and GAC will be available at http://www2.epa.gov/faca/nac-gac.

DATES: The National and Governmental Advisory Committees will hold an open meeting on Wednesday, November 16, 2016 from 9:00 a.m. to 5:00 p.m., and Thursday, November 17, 2016 from 9:00 a.m. until 3:00 p.m.

ADDRESSES: The meeting will be held at the U.S. EPA, Conference Room 1117A, located in the William Jefferson Clinton East Building, 1200 Pennsylvania Ave. NW., Washington, DC 20004. Telephone: 202-564-2294. The meeting is open to the public, with limited seating on a first-come, first-served basis.

FOR FURTHER INFORMATION CONTACT: Oscar Carrillo, Designated Federal Officer, carrillo.oscar@epa.gov, 202-564-0347, U.S. EPA, Federal Advisory Committee Management Division (1601-M), 1200 Pennsylvania Avenue NW., Washington, DC 20004.

SUPPLEMENTARY INFORMATION: Requests to make oral comments, or provide written comments to the NAC/GAC should be sent to Oscar Carrillo at carrillo.oscar@epa.gov by Tuesday, November 8, 2016. The meeting is open to the public, with limited seating on a first-come, first-served basis. Members of the public wishing to participate in the teleconference should contact Oscar Carrillo at carrillo.oscar@epa.gov or (202) 564-0347 by Nov. 8, 20116.

Meeting Access: For information on access or services for individuals with disabilities, please contact Oscar Carrillo at 202-564-0347 or carrillo.oscar@epa.gov. To request accommodation of a disability, please contact Oscar Carrillo, preferably at least 10 days prior to the meeting, to give EPA as much time as possible to process your request.

Dated: October 25, 2016.
Oscar Carrillo,
Designated Federal Officer.

[FR Doc. 2016-26611 Filed 11-2-16; 8:45 am]

BILLING CODE 6560-50-P